DEPARTMENT OF HEALTH AND HUMAN SERVICES

Centers for Disease Control and Prevention

[30Day-17-0263]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Requirements for the Importation of Nonhuman Primates into the United States (OMB Control No. 0920-0263; Expiration Date 09/30/2017)—Revision—National Center for Emerging and Zoonotic Infectious Diseases, Centers for Disease Control and Prevention (CDC).

Background and Brief Description

Under the 42 CFR 71.53, CDC collects information pertaining to importers and imported nonhuman primates. This information collection enables CDC to evaluate compliance with pre-arrival of shipment notification requirements, to investigate the number and species of imported nonhuman primates, and to determine if adequate measures being taken for the prevention of exposure to persons and animals during importation.

Since May 1990, CDC has monitored the arrival and/or uncrating of certain shipments of non-human primates imported in to the United States. In February 2013, CDC promulgated two regulations pertaining to the importation of nonhuman primates. The first rule, Establishment of User Fees for Filovirus Testing of Nonhuman Primate Liver Samples, outlines a process by which importers can send liver tissues to CDC from primates that die during importation from reasons other than trauma (78 FR 9828, February 12, 2013). CDC performs these tests due to the absence of a private sector option. The second rule, Requirements for Importers of Nonhuman Primates, consolidates into 42 CFR 71.53 the requirements previously found in 42 CFR 71.53 with those found in the Special Permit to Import Cynomolgus, African Green, or Rhesus Monkeys into the United States (78 FR 11522, February 15, 2013). It also rescinded the six-month special-permit requirements for cynomolgus, African green, and rhesus monkeys and extended the time period for registration/permit renewal from 180 days to 2 years, reducing much of the respondent burden. CDC feels these regulatory changes and reporting requirements balance the public health risks posed by the importation of nonhuman primates with the burden imposed on regulating their importation.

Based on the number of registered importers and the number of filovirus samples processed by CDC, CDC is adjusting downward the number of burden hours for the following collections:

• Recordkeeping and reporting requirements for importing NHPs: Notification of shipment arrival 71.53(n) (no form): Reduction of two hours.

• Quarantine release 71.53(l) (No form): Reduction of two hours.

• 71.53(v): Form: Filovirus Diagnostic Specimen Submission Form for Non-human Primate Materials: Reduction of 17 hours.

• 71.53(g)(1)(iii) and (h) Documentation and Standard Operating Procedures (no form) (Registered Importer): Reduction of one hour.

Estimated Annualized Burden Hours

All registered importers of non-human primates are required by 42 CFR 71.53 to maintain certain disease control procedures and keep certain records. Standard business practices likely dictate that importers already keep records on the origin, transportation, and disposition of the nonhuman primates. Thus, CDC asks for information which should already be maintained by the importers and need only be assembled and reported. The estimate of burden hours totals 922, which reflects assembling and reporting only.

Type of respondent | Form name/CFR reference | Number of respondents | Number of responses per respondent | Average burden per response (in hours)
Nonhuman Primate Importer | CDC 75.10A Application for Registration as an Importer of Nonhuman Primates (New Importer) | 1 | 1 | 10/60
Nonhuman Primate Importer | CDC 75.10A Application for Registration as an Importer of Nonhuman Primates (Re-Registration) | 12 | 1 | 10/60
Nonhuman Primate Importer | 71.53(g)(1)(iii) and (h) Documentation and Standard Operating Procedures (no form) (New Importer) | 1 | 1 | 10
Nonhuman Primate Importer | 71.53(g)(1)(iii) and (h) Documentation and Standard Operating Procedures (no form) (Registered Importer) | 12 | 1 | 30/60
Nonhuman Primate Importer | Recordkeeping and reporting requirements for importing NHPs: Notification of shipment arrival 71.53(n) (no form) | 24 | 6 | 15/60
Nonhuman Primate Importer | Quarantine release 71.53(l) (No form) | 24 | 6 | 15/60
Nonhuman Primate Importer | 71.53(v) Form: Filovirus Diagnostic Specimen Submission Form for Non-human Primate Materials | 10 | 10 | 20/60
Importer/Filer | CDC Partner Government Agency Message Set for Importing Live Nonhuman Primates | 150 | 1 | 15/60
Importer/Filer | CDC Partner Government Agency Message Set for Importing Nonhuman Primate Products | 2280 | 1 | 15/60
Importer/Filer | Documentation of Non-infectiousness 71.53(t) | 2280 | 1 | 5/60

Leroy A. Richardson,
Chief, Information Collection Review Office, Office of Scientific Integrity, Office of the Associate Director for Science, Office of the Director, Centers for Disease Control and Prevention.

[FR Doc. 2017-11263 Filed 5-31-17; 8:45 am]

BILLING CODE 4163-18-P